DEPARTMENT OF HOMELAND SECURITY

Federal Emergency Management Agency

44 CFR Part 64

[Docket ID FEMA-2014-0002; Internal Agency Docket No. FEMA-8337]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR Part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR Part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current Effective Map date | Date certain Federal assistance no longer available in SFHAs
Region I
Massachusetts:
Acushnet, Town of, Bristol County | 250048 | April 3, 1981, Emerg; July 19, 1982, Reg; July 16, 2014, Susp | July 16, 2014 | July 16, 2014
Barnstable, Town of, Barnstable County | 250001 | October 27, 1972, Emerg; April 3, 1978, Reg; July 16, 2014, Susp | ......do* | Do.
Berkley, Town of, Bristol County | 250050 | February 19, 1974, Emerg; July 3, 1978, Reg; July 16, 2014, Susp | ......do | Do.
Berlin, Town of, Worcester County | 250294 | August 11, 1975, Emerg; June 18, 1980, Reg; July 16, 2014, Susp | ......do | Do.
Beverly, City of, Essex County | 250077 | August 16, 1974, Emerg; March 18, 1986, Reg; July 16, 2014, Susp | ......do | Do.
Bolton, Town of, Worcester County | 250296 | March 10, 1975, Emerg; June 18, 1980, Reg; July 16, 2014, Susp | ......do | Do.
Bourne, Town of, Barnstable County | 255210 | April 30, 1971, Emerg; June 29, 1973, Reg; July 16, 2014, Susp | ......do | Do.
Boylston, Town of, Worcester County | 250297 | August 26, 1975, Emerg; July 2, 1981, Reg; July 16, 2014, Susp | ......do | Do.
Brewster, Town of, Barnstable County | 250003 | July 21, 1975, Emerg; June 19, 1985, Reg; July 16, 2014, Susp | ......do | Do.
Chatham, Town of, Barnstable County | 250004 | July 9, 1975, Emerg; August 1, 1980, Reg; July 16, 2014, Susp | ......do | Do.
Clinton, Town of, Worcester County | 250300 | May 26, 1977, Emerg; June 15, 1982, Reg; July 16, 2014, Susp | ......do | Do.
Dennis, Town of, Barnstable County | 250005 | December 10, 1971, Emerg; October 6, 1976, Reg; July 16, 2014, Susp | ......do | Do.
Dighton, Town of, Bristol County | 250052 | March 9, 1973, Emerg; June 18, 1980, Reg; July 16, 2014, Susp | ......do | Do.
Eastham, Town of, Barnstable County | 250006 | March 1, 1974, Emerg; July 3, 1986, Reg; July 16, 2014, Susp | ......do | Do.
Fairhaven, Town of, Bristol County | 250054 | October 8, 1971, Emerg; March 16, 1976, Reg; July 16, 2014, Susp | ......do | Do.
Fall River, City of, Bristol County | 250055 | September 14, 1977, Emerg; September 30, 1981, Reg; July 16, 2014, Susp | ......do | Do.
Falmouth, Town of, Barnstable County | 255211 | July 23, 1971, Emerg; May 18, 1973, Reg; July 16, 2014, Susp | ......do | Do.
Freetown, Town of, Bristol County | 250056 | August 11, 1975, Emerg; June 18, 1980, Reg; July 16, 2014, Susp | ......do | Do.
Gloucester, City of, Essex County | 250082 | December 1, 1972, Emerg; January 17, 1986, Reg; July 16, 2014, Susp | ......do | Do.
Harwich, Town of, Barnstable County | 250008 | December 10, 1973, Emerg; September 30, 1980, Reg; July 16, 2014, Susp | ......do | Do.
Ipswich, Town of, Essex County | 250086 | July 30, 1975, Emerg; August 5, 1985, Reg; July 16, 2014, Susp | ......do | Do.
Lynn, City of, Essex County | 250088 | August 9, 1974, Emerg; February 1, 1985, Reg; July 16, 2014, Susp | ......do | Do.
Marblehead, Town of, Essex County | 250091 | January 16, 1974, Emerg; July 3, 1985, Reg; July 16, 2014, Susp | ......do | Do.
Mashpee, Town of, Barnstable County | 250009 | November 24, 1972, Emerg; September 15, 1978, Reg; July 16, 2014, Susp | ......do | Do.
New Bedford, City of, Bristol County | 255216 | February 25, 1972, Emerg; July 6, 1973, Reg; July 16, 2014, Susp | ......do | Do.
Newbury, Town of, Essex County | 250096 | October 6, 1972, Emerg; March 15, 1977, Reg; July 16, 2014, Susp | ......do | Do.
Newburyport, City of, Essex County | 250097 | October 6, 1972, Emerg; February 15, 1978, Reg; July 16, 2014, Susp | ......do | Do.
Northborough, Town of, Worcester County | 250321 | June 10, 1975, Emerg; November 15, 1979, Reg; July 16, 2014, Susp | ......do | Do.
Orleans, Town of, Barnstable County | 250010 | December 4, 1973, Emerg; September 4, 1986, Reg; July 16, 2014, Susp | ......do | Do.
Provincetown, Town of, Barnstable County | 255218 | November 26, 1971, Emerg; March 2, 1973, Reg; July 16, 2014, Susp | ......do | Do.
Rehoboth, Town of, Bristol County | 250062 | February 11, 1972, Emerg; September 1, 1977, Reg; July 16, 2014, Susp | ......do | Do.
Rowley, Town of, Essex County | 250101 | N/A, Emerg; December 3, 2009, Reg; July 16, 2014, Susp | ......do | Do.
Salem, City of, Essex County | 250102 | June 23, 1972, Emerg; March 15, 1977, Reg; July 16, 2014, Susp | ......do | Do.
Sandwich, Town of, Barnstable County | 250012 | December 29, 1972, Emerg; June 18, 1980, Reg; July 16, 2014, Susp | ......do | Do.
Saugus, Town of, Essex County | 250104 | August 25, 1975, Emerg; January 19, 1983, Reg; July 16, 2014, Susp | ......do | Do.
Seekonk, Town of, Bristol County | 250063 | July 25, 1975, Emerg; September 5, 1979, Reg; July 16, 2014, Susp | ......do | Do.
Shrewsbury, Town of, Worcester County | 250332 | April 11, 1975, Emerg; June 4, 1980, Reg; July 16, 2014, Susp | ......do | Do.
Somerset, Town of, Bristol County | 255220 | November 13, 1970, Emerg; March 17, 1972, Reg; July 16, 2014, Susp | ......do | Do.
Southborough, Town of, Worcester County | 250333 | August 11, 1975, Emerg; October 15, 1981, Reg; July 16, 2014, Susp | ......do | Do.
Swampscott, Town of, Essex County | 250105 | September 29, 1972, Emerg; September 3, 1976, Reg; July 16, 2014, Susp | ......do | Do.
Swansea, Town of, Bristol County | 255221 | June 12, 1970, Emerg; August 6, 1971, Reg; July 16, 2014, Susp | ......do | Do.
Truro, Town of, Barnstable County | 255222 | November 26, 1971, Emerg; April 20, 1973, Reg; July 16, 2014, Susp | ......do | Do.
Yarmouth, Town of, Barnstable County | 250015 | May 26, 1972, Emerg; May 2, 1977, Reg; July 16, 2014, Susp | ......do | Do.
Region III
Pennsylvania:
Allen, Township of, Northampton County | 421928 | March 1, 1977, Emerg; May 19, 1981, Reg; July 16, 2014, Susp | ......do | Do.
Bangor, Borough of, Northampton County | 420716 | June 1, 1973, Emerg; February 2, 1977, Reg; July 16, 2014, Susp | ......do | Do.
Bath, Borough of, Northampton County | 420717 | August 8, 1975, Emerg; February 17, 1988, Reg; July 16, 2014, Susp | ......do | Do.
Bethlehem, City of, Northampton and Lehigh Counties. | 420718 | September 1, 1972, Emerg; July 3, 1978, Reg; July 16, 2014, Susp | ......do | Do.
Bethlehem, Township of, Northampton County | 420980 | January 23, 1974, Emerg; June 4, 1980, Reg; July 16, 2014, Susp | ......do | Do.
Bushkill, Township of, Northampton County | 421929 | March 23, 1977, Emerg; March 4, 1988, Reg; July 16, 2014, Susp | ......do | Do.
Chapman, Borough of, Northampton County | 422251 | May 20, 1980, Emerg; July 30, 1982, Reg; July 16, 2014, Susp | ......do | Do.
East Allen, Township of, Northampton County | 420981 | October 19, 1973, Emerg; February 11, 1983, Reg; July 16, 2014, Susp | ......do | Do.
East Bangor, Borough of, Northampton County | 422252 | February 15, 1977, Emerg; February 12, 1982, Reg; July 16, 2014, Susp | ......do | Do.
Easton, City of, Northampton County | 425383 | June 18, 1971, Emerg; October 17, 1978, Reg; July 16, 2014, Susp | ......do | Do.
Forks, Township of, Northampton County | 421930 | September 19, 1975, Emerg; July 16, 1980, Reg; July 16, 2014, Susp | ......do | Do.
Freemansburg, Borough of, Northampton County | 420721 | March 30, 1973, Emerg; September 1, 1977, Reg; July 16, 2014, Susp | ......do | Do.
Glendon, Borough of, Northampton County | 422254 | August 7, 1975, Emerg; January 16, 1980, Reg; July 16, 2014, Susp | ......do | Do.
Hanover, Township of, Northampton County | 420722 | January 19, 1973, Emerg; August 1, 1977, Reg; July 16, 2014, Susp | ......do | Do.
Lehigh, Township of, Northampton County | 421931 | June 10, 1975, Emerg; December 15, 1981, Reg; July 16, 2014, Susp | ......do | Do.
Lower Mount Bethel, Township of, Northampton County | 420724 | April 18, 1973, Emerg; March 1, 1977, Reg; July 16, 2014, Susp | ......do | Do.
Lower Nazareth, Township of, Northampton County | 422253 | January 3, 1977, Emerg; May 4, 1988, Reg; July 16, 2014, Susp | ......do | Do.
Lower Saucon, Township of, Northampton County | 420982 | January 30, 1974, Emerg; September 28, 1979, Reg; July 16, 2014, Susp | ......do | Do.
Moore, Township of, Northampton County | 420983 | January 28, 1974, Emerg; October 17, 1978, Reg; July 16, 2014, Susp | ......do | Do.
Nazareth, Borough of, Northampton County | 420725 | March 15, 1976, Emerg; October 8, 1982, Reg; July 16, 2014, Susp | ......do | Do.
North Catasauqua, Borough of, Northampton County | 420727 | May 9, 1975, Emerg; July 16, 1981, Reg; July 16, 2014, Susp | ......do | Do.
Northampton, Borough of, Northampton County | 420726 | February 1, 1974, Emerg; May 3, 1982, Reg; July 16, 2014, Susp | ......do | Do.
Palmer, Township of, Northampton County | 420728 | October 22, 1971, Emerg; December 28, 1976, Reg; July 16, 2014, Susp | ......do | Do.
Pen Argyl, Borough of, Northampton County | 421926 | December 26, 1974, Emerg; June 25, 1976, Reg; July 16, 2014, Susp | ......do | Do.
Plainfield, Township of, Northampton County | 421147 | April 4, 1974, Emerg; January 16, 1980, Reg; July 16, 2014, Susp | ......do | Do.
Portland, Borough of, Northampton County | 420729 | June 3, 1974, Emerg; September 16, 1981, Reg; July 16, 2014, Susp | ......do | Do.
Roseto, Borough of, Northampton County | 422255 | March 7, 1978, Emerg; December 1, 1987, Reg; July 16, 2014, Susp | ......do | Do.
Stockertown, Borough of, Northampton County | 420730 | August 25, 1975, Emerg; December 4, 1979, Reg; July 16, 2014, Susp | ......do | Do.
Upper Mount Bethel, Township of, Northampton County | 421933 | September 15, 1975, Emerg; September 30, 1981, Reg; July 16, 2014, Susp | ......do | Do.
Upper Nazareth, Township of, Northampton County | 421934 | May 13, 1977, Emerg; February 25, 1983, Reg; July 16, 2014, Susp | ......do | Do.
Walnutport, Borough of, Northampton County | 420732 | January 28, 1974, Emerg; June 1, 1978, Reg; July 16, 2014, Susp | ......do | Do.
Washington, Township of, Northampton County | 421156 | April 15, 1974, Emerg; September 30, 1988, Reg; July 16, 2014, Susp | ......do | Do.
West Easton, Borough of, Northampton County | 420733 | July 9, 1973, Emerg; March 1, 1979, Reg; July 16, 2014, Susp | ......do | Do.
Williams, Township of, Northampton County | 421036 | December 17, 1973, Emerg; September 14, 1979, Reg; July 16, 2014, Susp | ......do | Do.
Wilson, Borough of, Northampton County | 421927 | July 17, 1974, Emerg; January 16, 1980, Reg; July 16, 2014, Susp | ......do | Do.
Wind Gap, Borough of, Northampton County | 420734 | November 14, 1975, Emerg; May 19, 1981, Reg; July 16, 2014, Susp | ......do | Do.
Virginia: City of Richmond, Independent City | 510129 | August 29, 1973, Emerg; June 15, 1979, Reg; July 16, 2014, Susp | ......do | Do.
Region V
Indiana:
Alton, Town of, Crawford County | 180031 | March 19, 1984, Emerg; March 19, 1984, Reg; July 16, 2014, Susp | ......do | Do.
Crawford County, Unincorporated Areas | 180472 | December 18, 1979, Emerg; January 17, 1986, Reg; July 16, 2014, Susp | ......do | Do.
English, Town of, Crawford County | 180032 | March 25, 1976, Emerg; January 3, 1986, Reg; July 16, 2014, Susp | ......do | Do.
Leavenworth, Town of, Crawford County | 180035 | March 16, 1983, Emerg; August 1, 1983, Reg; July 16, 2014, Susp | ......do | Do.
Marengo, Town of, Crawford County | 180033 | January 6, 1976, Emerg; September 16, 1982, Reg; July 16, 2014, Susp | ......do | Do.
Milltown, Town of, Crawford and Harrison Counties | 180034 | February 13, 1976, Emerg; October 15, 1985, Reg; July 16, 2014, Susp | ......do | Do.
Michigan:
Eden, Township of, Mason County | 261274 | November 22, 2013, Emerg; N/A, Reg; July 16, 2014, Susp | ......do | Do.
Hamlin, Township of, Mason County | 260134 | July 2, 1975, Emerg; December 17, 1987, Reg; July 16, 2014, Susp | ......do | Do.
Pere Marquette, Charter Township of, Mason County | 260582 | October 9, 1975, Emerg; July 3, 1985, Reg; July 16, 2014, Susp | ......do | Do.
Summit, Township of, Mason County | 260307 | September 27, 1974, Emerg; December 17, 1987, Reg; July 16, 2014, Susp | ......do | Do.
Region VI
Louisiana:
Addis, Town of, West Baton Rouge Parish | 220240 | April 30, 1973, Emerg; August 15, 1977, Reg; July 16, 2014, Susp | ......do | Do.
Brusly, Town of, West Baton Rouge Parish | 220241 | April 30, 1973, Emerg; August 15, 1977, Reg; July 16, 2014, Susp | ......do | Do.
Port Allen, City of, West Baton Rouge Parish. | 220242 | April 30, 1973, Emerg; January 24, 1978, Reg; July 16, 2014, Susp | ......do | Do.
West Baton Rouge Parish, Unincorporated Areas | 220239 | April 30, 1973, Emerg; April 3, 1978, Reg; July 16, 2014, Susp | ......do | Do.
Region VII
Kansas:
Concordia, City of, Cloud County | 200060 | April 23, 1975, Emerg; July 1, 1987, Reg; July 16, 2014, Susp | ......do | Do.
Glasco, City of, Cloud County | 200061 | July 23, 1975, Emerg; July 1, 1987, Reg; July 16, 2014, Susp | ......do | Do.
*-do- = Ditto.
Code for reading third column: Emerg.—Emergency; Reg.—Regular; Susp.—Suspension.

Dated: June 17, 2014.
David L. Miller,
Associate Administrator, Federal Insurance and Mitigation Administration, Department of Homeland Security, Federal Emergency Management Agency.

[FR Doc. 2014-15561 Filed 7-1-14; 8:45 am]

BILLING CODE 9110-12-P